DEPARTMENT OF ENERGY

Federal Energy Regulatory Commission

[Docket No. IC24-12-000]

Commission Information Collection Activities (FERC-582) Comment Request; Extension

AGENCY: Federal Energy Regulatory Commission.

ACTION: Notice of information collection and request for comments.

SUMMARY: In compliance with the requirements of the Paperwork Reduction Act of 1995 (PRA), the Federal Energy Regulatory Commission (Commission or FERC) is soliciting public comment on the currently approved information collection, FERC-582, Electric Fees, Annual Charges, Waivers, and Exemptions, OMB Control Number 1902-0132, which will be submitted to the Office of Management and Budget (OMB) for review.

DATES: Comments on the collection of information are due June 12, 2024.

ADDRESSES: Send written comments on FERC-582 to OMB through www.reginfo.gov/public/do/PRAMain. Attention: Federal Energy Regulatory Commission Desk Officer. Please identify the OMB Control Number (1902-0132) in the subject line of your comments. Comments should be sent within 30 days of publication of this notice to www.reginfo.gov/public/do/PRAMain.

Please submit copies of your comments to the Commission. You may submit copies of your comments (identified by Docket No. IC24-12-000 and FERC-582) by one of the following methods: Electronic filing through https://www.ferc.gov, is preferred.

• Electronic Filing: Documents must be filed in acceptable native applications and print-to-PDF, but not in scanned or picture format.

• For those unable to file electronically, comments may be filed by USPS mail or by hand (including courier) delivery.

• Mail via U.S. Postal Service Only: Addressed to: Federal Energy Regulatory Commission, Secretary of the Commission, 888 First Street NE, Washington, DC 20426.

• Hand (including courier) delivery: Deliver to: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at https://www.ferc.gov/ferc-online/overview. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Jean Sonneman may be reached by email at DataClearance@FERC.gov, telephone at (202) 502-6362.

SUPPLEMENTARY INFORMATION:

Title: FERC-582, Electric Fees, Annual Charges, Waivers, and Exemptions.

OMB Control No.: 1902-0132.

Type of Request: Three-year extension of the FERC-582 information collection requirements with no changes to the current reporting requirements.

Abstract: The information required by FERC-582 is listed at 18 CFR parts 381 and 382.

The Commission uses the FERC-582 information to implement the Independent Offices Appropriation Act of 1952.¹ That statute authorizes the Commission to establish fees for its services. In addition, the Omnibus Budget Reconciliation Act of 1986 ² authorizes the Commission to assess and collect fees and annual charges in any fiscal year in amounts equal to all the costs incurred by the Commission in that fiscal year.

¹ 31 U.S.C. 9701.

² 42 U.S.C. 7178.

To comply with the collection of information at FERC-582, respondents must submit to the Commission the sum of the megawatt-hours (MWh) of all unbundled transmission (including MWh delivered in wheeling transactions and MWh delivered in exchange transactions) and the megawatt-hours of all bundled wholesale power sales (to the extent the bundled wholesale power sales were not separately reported as unbundled transmission). The data collected in the FERC-582 information collection are drawn directly from the FERC Form 1(Annual Report of Major Electric Utilities, Licensees and Others) ³ transmission data. The Commission sums the costs of its electric regulatory program and subtracts all electric regulatory program filing fee collections to determine the total collectible electric regulatory program costs. Then, the Commission uses the data submitted under FERC-582 to determine the total megawatt-hours of transmission of electric energy in interstate commerce. Respondents (public utilities and power marketers) subject to these annual charges must submit FERC-582 data to the Commission by April 30 of each year.⁴ The Commission issues bills for annual charges to respondents. Then, respondents must pay the charges within 45 days of the Commission's issuance of the bill.

³ OMB Control No. 1902-0021, described in 18 CFR 141.1

⁴ 18 CFR 382.201

Respondents may file requests for waivers and exemptions of fees and charges ⁵ based on need. The Commission's staff uses the filer's financial information to evaluate the request for a waiver or exemption of the obligation to pay a fee or an annual charge.

⁵ This includes requirements of 18 CFR 381.105 (methods of payment), 381.106 (waiver), 381.108 (exemption), 381.302 (declaratory order), 381.303 (review of DOE remedial order), 381.304 (DOE denial of adjustment), and 381.305 (OGC interpretation).

The Commission published a 60-day notice for FERC-582 on March 7, 2024 (89 FR 16556), with a comment due date of May 6, 2024. The Commission received no comments in response.

Estimate of Annual Burden: The Commission estimates the burden ⁶ and cost ⁷ for this information collection as follows.

⁶ Burden is defined as the total time, effort, or financial resources expended by persons to generate, maintain, retain, or disclose or provide information to or for a Federal agency. For further explanation of what is included in the information collection burden, refer to 5 CFR part 1320.

⁷ The Commission staff estimates that the average respondent for FERC-582 is similarly situated to the Commission, in terms of salary plus benefits. Based on FERC's current annual average of $207,786 (for salary plus benefits), the average hourly cost is $100/hour.

FERC-582, Electric Fees, Annual Charges, Waivers, and Exemptions
Number of respondents | Annual No. of responses per respondent | Total No. of responses | Average burden & cost per response | Total annual burden hrs. & cost | Cost per respondent
(1) | (2) | (1) x (2) = (3) | (4) | (3) * (4) = (5) | (5)/(1)=(5)
51 | 1 | 51 | 2.39 hrs. $239.00 | 122 hrs. $12,189.00 (rounded) | $239.00

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 7, 2024.
Debbie-Anne Reese,
Acting Secretary.

[FR Doc. 2024-10345 Filed 5-10-24; 8:45 am]

BILLING CODE 6717-01-P